DEPARTMENT OF DEFENSE

Office of the Secretary

[Transmittal No. 25-0U]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-0U.

Dated: January 21, 2026.
Stephanie J. Bost,
Alternate OSD Federal Register Liaison Officer, Department of Defense.

BILLING CODE 6001-FR-P

BILLING CODE 6001-FR-C

Transmittal No. 25-0U

REPORT OF ENHANCEMENT OR UPGRADE OF SENSITIVITY OF TECHNOLOGY OR CAPABILITY (SEC. 36(B)(5)(C), AECA)

(i) Prospective Purchaser: Government of Norway

(ii) Sec. 36(b)(1), AECA Transmittal No.: 24-75

Date: August 9, 2024

Implementing Agency: Army

(iii) Description: On August 9, 2024, Congress was notified by congressional certification transmittal number 24-75, of the possible sale, under Section 36(b)(1) of the Arms Export Control Act, of sixteen (16) M142 High Mobility Artillery Rocket Systems (HIMARS); fifteen (15) M30A2 Guided Multiple Launch Rocket System (GMLRS) Alternative Warhead (AW) pods with Insensitive Munitions Propulsion System (IMPS); fifteen (15) M31A2 GMLRS Unitary (GMLRS-U) high explosive pods with IMPS; and one hundred (100) M57 Army Tactical Missile System (ATACMS) pods. Also included were Low Cost Reduced Range Practice Rocket (LCRRPR) pods; interactive electronic technical manuals; integration support services; spare parts; tool kits; test equipment; contractor logistics support; training; training equipment; technical assistance; technical publications; transportation; and other related elements of logistics and program support. The estimated total cost was $580 million. Major Defense Equipment (MDE) constituted $510 million of this total.

This transmittal notifies the addition of the following MDE items: twenty-five (25) M403 Extended Range Guided Multiple Launch Rocket System (ER GMLRS) Alternative Warhead (AW) pods; and twenty-five (25) M404 ER GMLRS Unitary pods. This transmittal also notifies an MDE increase in value for the previously notified M57 Army Tactical Missile System (ATACMS) pods, due to recent cost increases. The additional $260 million value of the new MDE items, in addition to the $240 million value increase, will result in a total MDE value increase of $500 million. The non-MDE value will remain at $70 million. The estimated total case value will increase by $500 million to a revised $1.08 billion. MDE will constitute $1.01 billion of this total.

(iv) Significance: This notification is being provided as the MDE items were not enumerated in the original notification. The inclusion of this MDE represents an increase in capability over what was previously notified. The proposed sale will improve Norway's capability to meet current and future threats and enhance its interoperability with United States (U.S.) and other allied forces. It will also enhance Norway's artillery and long-range capability.

(v) Justification: This proposed sale will support the foreign policy goals and national security objectives of the U.S. by improving the security of a NATO Ally that is an important force for political stability and economic progress in Europe.

(vi) Sensitivity of Technology:

The Extended Range Guided Multiple Launch Rocket System (ER GMLRS) provides a persistent, responsive all-weather, rapidly deployed, long-range, surface-to-surface, area- and point-precision strike capability. The M403 Alternative Warhead variant carries a 200-pound fragmentation assembly filled with high explosives which, upon detonation, accelerates two layers of preformed penetrators optimized for effectiveness against large area and imprecisely located targets. The M404 Unitary variant is a 200-pound class unitary with a steel blast fragmentation case, designed for low collateral damage against point targets. The ER GMLRS maintains the accuracy and effectiveness demonstrated by the baseline GMLRS out to a maximum range of 150 km (double of GMLRS capability) while also including a new Height of Burst (HOB) capability.

The Sensitivity of Technology statement contained in the original notification applies to items reported here.

The highest level of classification of defense articles, components, and services included in this potential sale is SECRET.

(vii) Date Report Delivered to Congress: May 8, 2025

[FR Doc. 2026-01353 Filed 1-23-26; 8:45 am]

BILLING CODE 6001-FR-P